DEPARTMENT OF DEFENSE

Office of the Secretary

[Docket ID: DoD-2021-OS-0105]

Submission for OMB Review; Comment Request

AGENCY: Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by February 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Military Experiences, Risk and Protective Factors, and Adolescent Health and Well-Being Survey; OMB Control Number 0704-AWBS.

Type of Request: Regular.

Number of Respondents: 8,960.

Responses per Respondent: 1.

Annual Responses: 8,960.

Average Burden per Response: 30 minutes.

Annual Burden Hours: 4,480 hours.

Needs and Uses: This study is designed to assess the direct and indirect association of military experiences with adolescents' psychosocial adjustment and physical health, academic achievement, educational/military career aspirations, and to identify risk and protective factors that may promote or inhibit positive outcomes among military-connected adolescents and their families. The primary objective of this research project is to study the impact of military service on the adolescent children of service members and veterans enrolled in the Millennium Cohort Study. DoD policy makers and researchers will use findings from analyses of collected survey data to inform prevention and treatment strategies to improve the well-being of military-connected youth and their families.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 11, 2022.
Aaron T. Siegel,
Alternate OSD Federal Register Liaison Officer, Department of Defense.

[FR Doc. 2022-00710 Filed 1-13-22; 8:45 am]

BILLING CODE 5001-06-P